DEPARTMENT OF HOMELAND SECURITY

Office of the Secretary

Homeland Security Advisory Council

AGENCY: Office of the Secretary, Department of Homeland Security.

ACTION: Notice of Federal Advisory Committee Meeting.

SUMMARY: The Homeland Security Advisory Council (HSAC) will meet via teleconference in an open session on Wednesday, February 18, 2004, from 3 p.m. to 4 p.m., EST. The HSAC will continue its discussions on development of a National Homeland Security Award for Excellence, based on recommendations submitted to the HSAC by the HSAC Award Working Group, and, pending discussion, approve a letter to the Secretary presenting the HSAC's recommendations.

DATES: The HSAC will meet Wednesday, February 18, 2004, from 3 pm until 4 pm.

FOR FURTHER INFORMATION CONTACT: Interested members of the public may listen in to the teleconference meeting by calling in to a toll free number provided upon registration. To ensure the appropriate number of lines, persons wishing to listen to the meeting must register with Mike Miron at (202) 692-4283 by 5 pm, EST, Friday February 13, 2004. Members of the public will receive the call-in number and access code at that time.

SUPPLEMENTARY INFORMATION: Notice of this meeting is given under the Federal Advisory Committee Act, 5 U.S.C. App. 2. Members of the public who wish to file a written statement with the HSAC may do so by mail to Mike Miron at the following address: Homeland Security Advisory Council, Department of Homeland Security, Washington DC 20528. Comments may also be sent via email to HSAC@dhs.gov or via fax to (202) 772-9718.

Dated: January 28, 2004.
Tom Ridge,
Secretary of Homeland Security.

[FR Doc. 04-2237 Filed 1-30-04; 9:33 am]

BILLING CODE 4410-10-U